DEPARTMENT OF ENERGY

Federal Energy Regulatory Commission

[Docket No. ER01-171-003, et al.]

Consumers Energy Company, et al.; Electric Rate and Corporate Regulation Filings

March 28, 2001.

Take notice that the following filings have been made with the Commission:

1. Consumers Energy Company CMS Marketing, Services and Trading Company

[Docket Nos. ER01-171-003]

Take notice that on March 23, 2001, Consumers Energy Company (CECo) and CMS Marketing, Services and Trading Company (CMS MST), tendered for filing amendments to CECo's contracts with its ten wholesale requirements customers and provided copies of amendments to CECo's non-jurisdictional contracts with three of its special contracts customers in compliance with the Commission's February 22, 2001 Order Conditionally Accepting For Filing Service Agreement And Revised Market-Based Rate Tariff And Code Of Conduct.

Comment date: April 13, 2001, in accordance with Standard Paragraph E at the end of this notice.

2. Pacific Gas and Electric Company

[Docket Nos. OA96-28-000, OA96-28-001, OA96-28-005, ER95-980-002, and OA97-619-002]

Take notice that on March 23, 2001, Pacific Gas and Electric Company (PG&E) tendered for filing its Refund Compliance Report in accordance with the Commission's February 7, 2001 Order in the above-captioned proceeding.

Copies of this filing have been served upon the California Public Utilities Commission and the Bay Area Rapid Transit District and Minnesota Methane.

Comment date: April 13, 2001, in accordance with Standard Paragraph E at the end of this notice.

3. California Independent System Operator Corporation

[Docket No. ER01-871-001]

Take notice that on March 23, 2001, the California Independent System Operator Corporation (ISO) tendered for a modified version of the Utility Distribution Company Operating Agreement between the ISO and the City of Vernon, California, in compliance with the Commission's order in California Independent System Operator Corporation, 94 FERC ¶ 61,145 (2001).

The ISO states that the only substantive change contained in the filing is the one required by the Commission. The ISO also states that this filing has been served upon all parties in this proceeding.

Comment date: April 13, 2001, in accordance with Standard Paragraph E at the end of this notice.

4. Duke Energy Corporation

[Docket No. ER01-1604-000]

Take notice that on March 22, 2001, Duke Energy Corporation (Duke) tendered for filing a Service Agreement with Axia Energy, LP for Firm Transmission Service under Duke's Open Access Transmission Tariff.

Duke requests that the proposed Service Agreement be permitted to become effective on March 8, 2001.

Duke states that this filing is in accordance with Part 35 of the Commission's Regulations and a copy has been served on the North Carolina Utilities Commission.

Comment date: April 13, 2001, in accordance with Standard Paragraph E at the end of this notice.

5. Duke Energy Corporation

[Docket No. ER01-1605-000]

Take notice that on March 22, 2001, Duke Energy Corporation (Duke) tendered for filing a Service Agreement with Axia Energy, LP for Non-Firm Transmission Service under Duke's Open Access Transmission Tariff.

Duke requests that the proposed Service Agreement be permitted to become effective on March 8, 2001.

Duke states that this filing is in accordance with Part 35 of the Commission's Regulations a copy has been served on the North Carolina Utilities Commission.

Comment date: April 12, 2001, in accordance with Standard Paragraph E at the end of this notice.

6. Baltimore Gas and Electric Company

[Docket No. ER01-1606-000]

Take notice that on March 23, 2001, tendered for filing is hereby given that effective April 1, 2001, FERC Electric Tariff, Original Volume No. 3, effective date April 15, 1996, and filed with the Federal Energy Regulatory Commission by Baltimore Gas and Electric Company, is to be canceled.

Notice of the proposed cancellation has been served upon the appropriate state commission in accordance with the FERC regulations.

Comment date: April 13, 2001, in accordance with Standard Paragraph E at the end of this notice.

7. Baltimore Gas and Electric Company

[Docket No. ER01-1607-000]

Take notice that on March 23, 2001, tendered for filing is hereby given that effective April 1, 2001, FERC Electric Tariff, Original Volume No. 4, effective date July 9, 1996, and filed with the Federal Energy Regulatory Commission by Baltimore Gas and Electric Company, is to be canceled.

Notice of the proposed cancellation has been served upon the appropriate state commission in accordance with the FERC regulations.

Comment date: April 13, 2001, in accordance with Standard Paragraph E at the end of this notice.

8. Wisconsin Electric Power Company

[Docket No. ER01-1618-000]

Take notice that March 23, 2001, Wisconsin Electric Power Company (Wisconsin Electric) tendered for filing a notification indicating name changes for electric service agreements under its Coordination Sales Tariff (CST) (FERC Electric Tariff, First Revised Volume No. 2) and its Market Rate Sales Tariff (MRT) (FERC Electric Tariff, Original Volume No. 8) as requested by the customer. Wisconsin Electric respectfully requests effective March 23, 2001, CST service agreement no. 86 with Southern Company Energy Marketing L.P. be changed to Mirant Americas Energy Marketing, LP (Mirant), MRT service agreement no. 10 and CST service agreement no. 90 with Amoco Energy be changed to BP Energy Company (BP), MRT service agreement no. 36 with NewEnergy, Inc. be changed to AES NewEnergy, Inc. (AES), MRT service agreement no. 9 and CST service agreement no. 38 with Aquila Power Corporation be changed to Aquila Energy Marketing Corporation (Aquila).

Wisconsin Electric requests waiver of any applicable regulation to allow for the effective date as requested above. Copies of the filing have been served on Mirant, BP, AES, Aquila, the Michigan Public Service Commission, and the Public Service Commission of Wisconsin.

Comment date: April 13, 2001, in accordance with Standard Paragraph E at the end of this notice.

9. Duke Energy Mohave, LLC

[Docket No. ER01-1619-000]

Take notice that on March 23, 2001, Duke Energy Mohave, LLC (Duke Mohave) tendered for filing pursuant to Rule 205, 18 CFR 385.205, its FERC Electric Tariff No. 1 to become effective as of the date on which the Griffith Project begins generating electricity, and requests waivers and blanket approvals under various regulations of the Commission.

Duke Mohave intends to sell energy, capacity, and ancillary services at wholesale at rates, terms, and conditions to be mutually agreed to with the purchasing party. Duke Mohave's FERC Electric Tariff No. 1 provides for the sale of energy, capacity, and ancillary services at agreed prices.

Comment date: April 13, 2001, in accordance with Standard Paragraph E at the end of this notice.

10. Pike County Power, LLC

[Docket No. EG01-160-000]

Take notice that on March 23, 2001, Pike County Power, LLC (Pike), an Indiana limited liability company with its principal place of business at 2810 Lexington Financial Center, Lexington, Kentucky 40507 filed with the Federal Energy Regulatory Commission an application for determination of exempt wholesale generator status pursuant to Part 365 of the Commission's regulations.

Pike proposes to own two circulating fluidized bed steam electric generating units of approximately 500 MW total capacity located in Pike County, Indiana (Facility). The proposed Facility is expected to commence commercial operation in 2004. All output from the Facility will be sold by Pike exclusively at wholesale.

Comment date: April 18, 2001, in accordance with Standard Paragraph E at the end of this notice. The Commission will limit its consideration of comments to those that concern the adequacy of the application.

11. TransEnergie U.S. Ltd. and Cross Sound Cable Company, LLC

[Docket Nos. EL01-59-000 and ER01-1526-000]

Take notice that on March 21, 2001, TransEnergie U.S. Ltd. and Cross Sound Cable Company, LLC, filed with the Federal Energy Regulatory Commission (Commission), a Petition for Declaratory Order Disclaiming Jurisdiction.

Comment date: April 20, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8215 Filed 4-3-01; 8:45 am]

BILLING CODE 6717-01-P